DEPARTMENT OF ENERGY

Federal Energy Regulatory Commission

[Docket No. CP20-48-000]

Iroquois Gas Transmission System, L.P.; Notice of Revised Comment Period Deadline

On June 11, 2021, the Commission issued a notice setting August 2, 2021, as the date to file comments on the draft Environmental Impact Statement (EIS) for the Enhancement by Compression Project. The comment due date was based on the Environmental Protection Agency (EPA) issuing its Federal Register Notice of Availability of the EIS on the following Friday, June 18, 2021, consistent with EPA's filing guidance and procedures. However, in observance of Juneteenth (as announced on June 17, 2021), the EPA did not issue its Federal Register notice for the EIS until June 25, 2021. Per Title 40 Code of Federal Regulations Section 1506.11, it is the EPA's notice that establishes the beginning dates for comment periods on EISs. Therefore, the Commission is notifying all interested parties that the comment period now expires on August 9, 2021.

Dated: July 8, 2021.
Kimberly D. Bose,
Secretary.

[FR Doc. 2021-14943 Filed 7-13-21; 8:45 am]

BILLING CODE 6717-01-P